DEPARTMENT OF ENERGY

Federal Energy Regulatory Commission

Combined Notice of Filings #1

Take notice that the Commission received the following electric rate filings:

Docket Numbers: ER10-1484-019; ER10-3081-007; ER12-2381-005; ER13-1069-008.

Applicants: Shell Energy North America (US), L.P., Equilon Enterprises LLC, MP2 Energy LLC, MP2 Energy NE LLC.

Description: Updated Market Power Analysis for the Southwest Region of Shell Energy North America (US), L.P., et al.

Filed Date: 6/27/19.

Accession Number: 20190627-5238.

Comments Due: 5 p.m. ET 8/26/19.

Docket Numbers: ER10-2531-010.

Applicants: Cedar Creek Wind Energy, LLC.

Description: Updated Market Power Analysis for the Northwest Region of Cedar Creek Wind Energy, LLC.

Filed Date: 6/27/19.

Accession Number: 20190627-5216.

Comments Due: 5 p.m. ET 8/26/19.

Docket Numbers: ER10-2502-007; ER10-2472-006; ER10-2473-006; ER11-2724-007; ER11-4436-005; ER18-2518-002; ER19-645-001.

Applicants: Black Hills Colorado Electric, LLC, Black Hills Colorado IPP, LLC, Black Hills Colorado Wind, LLC, Black Hills Electric Generation, LLC, Black Hills Power, Inc., Black Hills Wyoming, LLC, Cheyenne Light Fuel & Power Company.

Description: Updated Market Power Analysis of the Black Hills MBR Sellers for the Northwest Region.

Filed Date: 6/27/19.

Accession Number: 20190627-5237.

Comments Due: 5 p.m. ET 8/26/19.

Docket Numbers: ER11-4475-013.

Applicants: Rockland Wind Farm LLC.

Description: Updated Market Power Analysis for the Northwest Region of Rockland Wind Farm LLC.

Filed Date: 6/27/19.

Accession Number: 20190627-5214.

Comments Due: 5 p.m. ET 8/26/19.

Docket Numbers: ER14-1656-011.

Applicants: CSOLAR IV WEST, LLC.

Description: Updated Market Power Analysis for the Southwest Region of CSOLAR IV West, LLC.

Filed Date: 6/27/19.

Accession Number: 20190627-5229.

Comments Due: 5 p.m. ET 8/26/19.

Docket Numbers: ER15-2267-002.

Applicants: Chevron Power Holdings Inc.

Description: Updated Market Power Analysis for the Southwest Region of Chevron Power Holdings Inc.

Filed Date: 6/28/19.

Accession Number: 20190628-5150.

Comments Due: 5 p.m. ET 8/27/19.

Docket Numbers: ER16-893-003; ER15-1066-003; ER16-1371-004; ER16-892-002; ER17-2318-002; ER17-239-002; ER17-43-002; ER17-44-002; ER18-2516-001; ER18-697-001.

Applicants: 62SK 8ME LLC, 63SU 8ME LLC, Cuyama Solar, LLC, Gray Hawk Solar, LLC, Portal Ridge Solar B, LLC, Portal Ridge Solar C, LLC, Red Horse Wind 2, LLC, Red Horse III, LLC, TPE Alta Luna, LLC, Willow Springs Solar, LLC.

Description: Market Power Update for the Southwest Region of 62SK 8ME LLC, et al.

Filed Date: 6/27/19.

Accession Number: 20190627-5223.

Comments Due: 5 p.m. ET 8/26/19.

Docket Numbers: ER18-2362-003.

Applicants: NTE Ohio, LLC.

Description: Compliance filing: compliance to 3 to be effective 7/1/2019.

Filed Date: 6/27/19.

Accession Number: 20190627-5143.

Comments Due: 5 p.m. ET 7/18/19.

Docket Numbers: ER19-31-002.

Applicants: Oregon Clean Energy, LLC.

Description: Compliance filing: Settlement Compliance Filing to be effective 12/1/2018.

Filed Date: 6/28/19.

Accession Number: 20190628-5086.

Comments Due: 5 p.m. ET 7/19/19.

Docket Numbers: ER19-1044-002.

Applicants: Telocaset Wind Power Partners, LLC.

Description: Updated Market Power Analysis for the Northwest Region of Telocaset Wind Power Partners, LLC.

Filed Date: 6/27/19.

Accession Number: 20190627-5219.

Comments Due: 5 p.m. ET 8/26/19.

Docket Numbers: ER19-1513-001.

Applicants: San Diego Gas & Electric Company.

Description: Tariff Amendment: Appendix XII Protocols to be effective 6/1/2019.

Filed Date: 6/27/19.

Accession Number: 20190627-5199.

Comments Due: 5 p.m. ET 7/18/19.

Docket Numbers: ER19-1700-000.

Applicants: Midcontinent Independent System Operator, Inc., Ameren Illinois Company.

Description: Amendment of Ameren Services Company, on behalf of Ameren Illinois Company to Clarify April 29, 2019 Midcontinent Independent System Operator, Inc. tariff filing.

Filed Date: 6/27/19.

Accession Number: 20190627-5205.

Comments Due: 5 p.m. ET 7/18/19.

Docket Numbers: ER19-2275-000.

Applicants: MidAmerican Energy Company.

Description: § 205(d) Rate Filing: Concurrence with Ottumwa GS Unit 1 F&O Agt to be effective 6/27/2019.

Filed Date: 6/27/19.

Accession Number: 20190627-5192.

Comments Due: 5 p.m. ET 7/18/19.

Docket Numbers: ER19-2276-000.

Applicants: New York Independent System Operator, Inc.

Description: § 205(d) Rate Filing: NYISO 205: Distributed Energy Resources (DER) tariff revisions to be effective 8/27/2019.

Filed Date: 6/27/19.

Accession Number: 20190627-5195.

Comments Due: 5 p.m. ET 7/18/19.

Docket Numbers: ER19-2277-000.

Applicants: ITC Midwest LLC.

Description: § 205(d) Rate Filing: ITC Midwest Filing of Unexecuted Communications Sharing Agreement to be effective 6/28/2019.

Filed Date: 6/27/19.

Accession Number: 20190627-5200.

Comments Due: 5 p.m. ET 7/18/19.

Docket Numbers: ER19-2278-000.

Applicants: Southwest Power Pool, Inc.

Description: § 205(d) Rate Filing: 2155R1 Sunflower Electric Power Corporation NITSA and NOA to be effective 6/1/2019.

Filed Date: 6/28/19.

Accession Number: 20190628-5047.

Comments Due: 5 p.m. ET 7/19/19.

Docket Numbers: ER19-2279-000.

Applicants: Bruce Power Inc.

Description: § 205(d) Rate Filing: Request for Cat. 1 Seller Status in the SW Region & Revised MBR Tariff to be effective 6/29/2019.

Filed Date: 6/28/19.

Accession Number: 20190628-5077.

Comments Due: 5 p.m. ET 7/19/19.

Docket Numbers: ER19-2280-000.

Applicants: NorthWestern Corporation.

Description: Tariff Cancellation: Notice of Cancellation: SA 850, Firm Point-to-Point Agreement with Energy Keeper to be effective 9/1/2019.

Filed Date: 6/28/19.

Accession Number: 20190628-5087.

Comments Due: 5 p.m. ET 7/19/19.

Docket Numbers: ER19-2281-000.

Applicants: New York State Electric & Gas Corporation.

Description: § 205(d) Rate Filing: NYSEG-NYPA Attachment C—O&M Annual Update to be effective 9/1/2019.

Filed Date: 6/28/19.

Accession Number: 20190628-5088.

Comments Due: 5 p.m. ET 7/19/19.

Docket Numbers: ER19-2282-000.

Applicants: New York Independent System Operator, Inc., PJM Interconnection, L.L.C.

Description: § 205(d) Rate Filing: 205 NYISO PJM joint JOA tariff revisions to be effective 9/16/2019.

Filed Date: 6/28/19.

Accession Number: 20190628-5089.

Comments Due: 5 p.m. ET 7/19/19.

Docket Numbers: ER19-2283-000.

Applicants: Indiana Michigan Power Company, AEP Indiana Michigan Transmission Company, PJM Interconnection, L.L.C.

Description: § 205(d) Rate Filing: AEP submits ILDSA, Service Agreement No. 1448 with City of Garrett to be effective 6/1/2019.

Filed Date: 6/28/19.

Accession Number: 20190628-5090.

Comments Due: 5 p.m. ET 7/19/19.

Docket Numbers: ER19-2284-000.

Applicants: Alabama Power Company.

Description: § 205(d) Rate Filing: SWE (Cooperative Energy) NITSA Filing to be effective 6/1/2019.

Filed Date: 6/28/19.

Accession Number: 20190628-5130.

Comments Due: 5 p.m. ET 7/19/19.

Docket Numbers: ER19-2285-000.

Applicants: Alabama Power Company.

Description: § 205(d) Rate Filing: SWE (PowerSouth Territorial) NITSA Amendment Filing (Add CAEC 45 Byrd Way DP) to be effective 2/20/2019.

Filed Date: 6/28/19.

Accession Number: 20190628-5131.

Comments Due: 5 p.m. ET 7/19/19.

Docket Numbers: ER19-2286-000.

Applicants: Vermont Transco LLC.

Description: Compliance filing: compliance 2019 Exibit A to be effective 7/1/2019.

Filed Date: 6/28/19.

Accession Number: 20190628-5134.

Comments Due: 5 p.m. ET 7/19/19.

Docket Numbers: ER19-2287-000.

Applicants: Goal Line L.P.

Description: Compliance filing: Updated Market Power Analysis for the SW Region & New eTariff Baseline to be effective 6/29/2019.

Filed Date: 6/28/19.

Accession Number: 20190628-5140.

Comments Due: 5 p.m. ET 8/27/19.

Docket Numbers: ER19-2288-000.

Applicants: California Independent System Operator Corporation.

Description: § 205(d) Rate Filing: 2019-06-28 Non-conforming Reliability Coordinator Service Agreement with LADWP to be effective 7/1/2019.

Filed Date: 6/28/19.

Accession Number: 20190628-5142.

Comments Due: 5 p.m. ET 7/19/19.

Docket Numbers: ER19-2289-000.

Applicants: KES Kingsburg, L.P.

Description: Compliance filing: Updated Market Power Analysis for the SW Region & New eTariff Baseline to be effective 6/29/2019.

Filed Date: 6/28/19.

Accession Number: 20190628-5147.

Comments Due: 5 p.m. ET 8/27/19.

Take notice that the Commission received the following electric securities filings:

Docket Numbers: ES19-32-000.

Applicants: New York State Electric & Gas Corporation, Rochester Gas & Electric Corporation, Central Maine Power Company, The United Illuminating Company.

Description: Supplement to June 7, 2019 Application under Section 204 of the Federal Power Act for Authorization to Issue Securities, et al. of Avangrid Service Company, on behalf of its affiliate companies.

Filed Date: 6/27/19.

Accession Number: 20190627-5232.

Comments Due: 5 p.m. ET 7/8/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2019.
Nathaniel J. Davis, Sr.,
Deputy Secretary.

[FR Doc. 2019-14313 Filed 7-3-19; 8:45 am]

BILLING CODE 6717-01-P